ENVIRONMENTAL PROTECTION AGENCY

[EPA-HQ-OPP-2018-0651; FRL-9999-71]

Product Cancellation Order for Certain Pesticide Registrations

AGENCY: Environmental Protection Agency (EPA).

ACTION: Notice.

SUMMARY: This notice announces EPA's order for the cancellations, voluntarily requested by the registrants and accepted by the Agency, of the products listed in Table 1 and Table 1A of Unit II., pursuant to the Federal Insecticide, Fungicide, and Rodenticide Act (FIFRA). This cancellation order follows a March 5, 2019 Federal Register Notice of Receipt of Requests from the registrants listed in Table 2 of Unit II. to voluntarily cancel these product registrations. In the March 5, 2019 notice, EPA indicated that it would issue an order implementing the cancellations, unless the Agency received substantive comments within the 180-day comment period that would merit its further review of these requests, or unless the registrants withdrew their requests. The Agency did not receive any comments on the notice. Further, the registrants did not withdraw their requests. Accordingly, EPA hereby issues in this notice a cancellation order granting the requested cancellations. Any distribution, sale, or use of the products subject to this cancellation order is permitted only in accordance with the terms of this order, including any existing stocks provisions.

DATES: The effective date of the cancellation listed in Table 1 of Unit II. is December 31, 2018, and the registrant may continue to sell and distribute existing stocks of this product until December 31, 2019. The effective date of the cancellations listed in Table 1A of Unit II. is October 7, 2019, and the registrant may continue to sell and distribute existing stocks of these products until October 7, 2020.

FOR FURTHER INFORMATION CONTACT: Christopher Green, Information Technology and Resources Management Division (7502P), Office of Pesticide Programs, Environmental Protection Agency, 1200 Pennsylvania Ave. NW, Washington, DC 20460-0001; telephone number: (703) 347-0367; email address: green.christopher@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2018-0651, is available at http://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What action is the Agency taking?

This notice announces the cancellation, as requested by registrants, of products registered under FIFRA section 3 (7 U.S.C. 136a). These registrations are listed in sequence by registration number in Table 1 and Table 1A of this unit.

Table 1—Product Cancellations
Registration No. | Company No. | Product name | Active ingredients
432-1477 | 432 | Prostar 70 WDG Fungicide | Flutolanil.

The registrant of the request in Table 1, requests to cancel the registration on December 31, 2018.

Table 1A—Product Cancellations
Registration No. | Company No. | Product name | Active ingredients
87290-16 | 87290 | Willowood Fomesafen 2 SL | Sodium salt of fomesafen.
ME050001 | 62719 | Stinger | Clopyralid, monoethanolamine salt.

Table 2 of this unit includes the names and addresses of record for all registrants of the products in Table 1 and Table 1A of this unit, in sequence by EPA company number. This number corresponds to the first part of the EPA registration numbers of the products listed in Table 1 and Table 1A of this unit.

Table 2—Registrants of Cancelled Products
EPA Company No. | Company name and address
432 | Bayer Environmental Science, A Division of Bayer CropScience, LP, 5000 CentreGreen Way, Suite 400, Cary, NC 27513.
62719 | Dow AgroSciences, LLC, 9330 Zionsville Rd., 308/2E, Indianapolis, IN 46268-1054.
87290 | Willowood, LLC, Wagner Regulatory Associates, Inc., P.O. Box 640, Hockessin, DE 19707-0640.

III. Summary of Public Comments Received and Agency Response to Comments

During the public comment period provided, EPA received no comments in response to the March 5, 2019 Federal Register notice announcing the Agency's receipt of the requests for voluntary cancellations of the products listed in Table 1 and Table 1A of Unit II.

IV. Cancellation Order

Pursuant to FIFRA section 6(f) (7 U.S.C. 136d(f)), EPA hereby approves the requested cancellations of the registrations identified in Table 1 and Table 1A of Unit II.

Accordingly, the Agency hereby orders that the product registrations identified in Table 1 and Table 1A of Unit II. are canceled. The effective date of these cancellations is specified in the DATES section. Any distribution, sale, or use of existing stocks of the products identified in Table 1 and Table 1A of Unit II. in a manner inconsistent with any of the provisions for disposition of existing stocks set forth in Unit VI. will be a violation of FIFRA.

V. What is the Agency's authority for taking this action?

Section 6(f)(1) of FIFRA (7 U.S.C. 136d(f)(1)) provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment in the Federal Register of March 5, 2019 (84 FR 7899) (FRL-9988-75). The comment period closed on September 3, 2019.

VI. Provisions for Disposition of Existing Stocks

Existing stocks are those stocks of registered pesticide products which are currently in the United States and which were packaged, labeled, and released for shipment prior to the effective date of the cancellation action. The existing stocks provisions for the products subject to this order are as follows:

The registrant of 432-1477, listed in Table 1, requested the cancellation to be effective on December 31, 2018, therefore, the registrant may continue to sell and distribute existing stocks of these products until December 31, 2019, which is 1 year after the effective date of the cancellation. Thereafter, the registrant is prohibited from selling or distributing the product listed in Table 1, except for export in accordance with FIFRA section 17 (7 U.S.C. 136o), or proper disposal.

For all other voluntary cancellations listed in Table 1A, the registrants may continue to sell and distribute existing stocks of products listed in Table 1A of Unit II. until 1 year after the publication of the Cancellation Order in the Federal Register, the date is specified in the DATES section. Thereafter, the registrants are prohibited from selling or distributing products listed in Table 1A, except for export in accordance with FIFRA section 17 (7 U.S.C. 136o), or proper disposal.

Persons other than the registrants may sell, distribute, or use existing stocks of the products listed in Table 1 and Table 1A of Unit II. until existing stocks are exhausted, provided that such sale, distribution, or use is consistent with the terms of the previously approved labeling on, or that accompanied, the canceled products.

Authority: 7 U.S.C. 136 et seq.

Dated: September 16, 2019.
Delores Barber,
Director, Information Technology and Resources Management Division, Office of Pesticide Programs.

[FR Doc. 2019-21713 Filed 10-4-19; 8:45 am]

BILLING CODE 6560-50-P